DEPARTMENT OF ENERGY

Environmental Management Site-Specific Advisory Board, Paducah

AGENCY: Department of Energy.

ACTION: Notice of open meeting: Correction.

SUMMARY: On October 25, 2017, the Department of Energy (DOE) published a notice of open meeting announcing a meeting on November 18, 2017 of the Environmental Management Site-Specific Advisory Board, Paducah (82 FR 49357). This document makes a correction to that notice.

FOR FURTHER INFORMATION CONTACT: Jennifer Woodard, Deputy Designated Federal Officer, Department of Energy Paducah Site Office, Post Office Box 1410, MS-103, Paducah, Kentucky 42001, (270) 441-6825.

Corrections

In the Federal Register of October 25, 2017, in FR Doc. 2017-23160, on page 49357, please make the following correction:

In that notice under ADDRESSES, second column, third paragraph, the meeting address has been changed. The original address was West Kentucky Community and Technical College, Emerging Technology Center, 4810 Alben Barkley Drive, Paducah, Kentucky 42001. The new address is West Kentucky Community and Technical College, Anderson Technical Building, 4810 Alben Barkley Drive, Paducah, Kentucky 42001.

Issued at Washington, DC, on October 30, 2017.
LaTanya R. Butler,
Deputy Committee Management Officer.

[FR Doc. 2017-23918 Filed 11-2-17; 8:45 am]

BILLING CODE 6450-01-P